DEPARTMENT OF ENERGY

Federal Energy Regulatory Commission

Combined Notice of Filings #1

Take notice that the Commission received the following electric corporate filings:

Docket Numbers:EC22-12-000.

Applicants: Calhoun Power Company, LLC, Alabama Power Company.

Description: Calhoun Power, LLC and Alabama Power Company submit response to the December 22, 2021 Deficiency Letter and Request for Shortened Comment Period and Confidential Treatment.

Filed Date: 1/21/22.

Accession Number: 20220121-5146.

Comment Date: 5 p.m. ET 2/11/22.

Take notice that the Commission received the following electric rate filings:

Docket Numbers: ER10-2290-010.

Applicants: Avista Corporation.

Description: Amendment to January 21, 2021 Notice of Non-Material Change in Status of Avista Corporation.

Filed Date: 1/27/22.

Accession Number: 20220127-5239.

Comment Date: 5 p.m. ET 2/17/22.

Docket Numbers: ER12-1470-011; ER18-836-004.

Applicants: Energia Sierra Juarez 2 U.S., LLC, Energia Sierra Juarez U.S., LLC.

Description: Notice of Non-Material Change in Status of Energia Sierra Juarez U.S., LLC, et al.

Filed Date: 1/26/22.

Accession Number: 20220126-5241.

Comment Date: 5 p.m. ET 2/16/22.

Docket Numbers: ER20-277-003.

Applicants: Southwestern Public Service Company.

Description: Compliance filing: ER20-277 Errata to be effective 1/1/2020.

Filed Date: 1/27/22.

Accession Number: 20220127-5070.

Comment Date: 5 p.m. ET 2/17/22.

Docket Numbers: ER20-1713-002.

Applicants: Evergy Kansas Central, Inc.

Description: Compliance filing: Order No. 864 Compliance to be effective 1/27/2020.

Filed Date: 1/27/22.

Accession Number: 20220127-5196.

Comment Date: 5 p.m. ET 2/17/22.

Docket Numbers: ER20-2040-003.

Applicants: Southwest Power Pool, Inc.

Description: Compliance filing: Prairie Wind Transmission LLC submits tariff filing per 35: Prairie Wind Order No. 864 Compliance Filing to be effective 1/27/2020.

Filed Date: 1/27/22.

Accession Number: 20220127-5143.

Comment Date: 5 p.m. ET 2/17/22.

Docket Numbers: ER20-2041-003.

Applicants: Southwest Power Pool, Inc.

Description: Compliance filing: Evergy Metro, Inc. submits tariff filing per 35: KCPL Order No. 864 Compliance Filing to be effective 1/27/2020.

Filed Date: 1/27/22.

Accession Number: 20220127-5184.

Comment Date: 5 p.m. ET 2/17/22.

Docket Numbers: ER20-2042-003.

Applicants: Southwest Power Pool, Inc.

Description: Compliance filing: Evergy Missouri West, Inc. submits tariff filing per 35: KCPL-GMO Order No. 864 Compliance Filing to be effective 1/27/2020.

Filed Date: 1/27/22.

Accession Number: 20220127-5235.

Comment Date: 5 p.m. ET 2/17/22.

Docket Numbers: ER20-2044-004.

Applicants: Southwest Power Pool, Inc.

Description: Compliance filing: Evergy Kansas Central, Inc. submits tariff filing per 35: Westar Energy, Inc. Order No. 864 Compliance Filing to be effective 1/27/2020.

Filed Date: 1/27/22.

Accession Number: 20220127-5176.

Comment Date: 5 p.m. ET 2/17/22.

Docket Numbers: ER21-9-001; ER21-86-001; ER21-88-001.

Applicants: Orange County Energy Storage 3 LLC, Orange County Energy Storage 2 LLC, Henrietta D Energy Storage LLC.

Description: Triennial Market Power Analysis for Southwest Region of Henrietta D Energy Storage LLC, et al.

Filed Date: 1/26/22.

Accession Number: 20220126-5239.

Comment Date: 5 p.m. ET 3/28/22.

Docket Numbers: ER21-1273-001.

Applicants: Oleander Power Project, Limited Partnership.

Description: Compliance filing: Oleander Power Project, Limited Partnership PPA with Seminole Compliance Filing to be effective 1/1/2022.

Filed Date: 1/27/22.

Accession Number: 20220127-5122.

Comment Date: 5 p.m. ET 2/17/22.

Docket Numbers: ER22-871-001.

Applicants: Jicarilla Solar 2 LLC.

Description: Tariff Amendment: Amendment to Market-Based Rate Application to be effective 2/7/2022.

Filed Date: 1/27/22.

Accession Number: 20220127-5091.

Comment Date: 5 p.m. ET 2/17/22.

Docket Numbers: ER22-892-000.

Applicants: Atlantic City Electric Company.

Description: § 205(d) Rate Filing: Chambers Temporary Interconnection Arrangement to be effective 3/28/2022.

Filed Date: 1/27/22.

Accession Number: 20220127-5001.

Comment Date: 5 p.m. ET 2/17/22.

Docket Numbers: ER22-893-000.

Applicants: PJM Interconnection, L.L.C.

Description: § 205(d) Rate Filing: Original ISA, Service Agreement No. 6315; Queue No. AE2-084 to be effective 12/29/2021.

Filed Date: 1/27/22.

Accession Number: 20220127-5026.

Comment Date: 5 p.m. ET 2/17/22.

Docket Numbers: ER22-894-000.

Applicants: APX, Inc.

Description: Tariff Amendment: Notice of Cancellation of FERC Electric Tariff to be effective 1/28/2022.

Filed Date: 1/27/22.

Accession Number: 20220127-5031.

Comment Date: 5 p.m. ET 2/17/22.

Docket Numbers: ER22-895-000.

Applicants: Southwest Power Pool, Inc.

Description: § 205(d) Rate Filing: 3908 T.

Filed Date: 1/27/22.

Accession Number: 20220127-5032.

Comment Date: 5 p.m. ET 2/17/22.

Docket Numbers: ER22-896-000.

Applicants: American Electric Power Service Corporation, PJM Interconnection, L.L.C.

Description: § 205(d) Rate Filing: American Electric Power Service Corporation submits tariff filing per 35.13(a)(2)(iii: AEP submits Update to Attachment 1 of ILDSA, SA No. 1336(1/27/22) to be effective 1/1/2022.

Filed Date: 1/27/22.

Accession Number: 20220127-5048.

Comment Date: 5 p.m. ET 2/17/22.

Docket Numbers: ER22-897-000.

Applicants: ITC Midwest LLC.

Description: § 205(d) Rate Filing: Filing of Crystal Lake CIAC Agreement to be effective 3/29/2022.

Filed Date: 1/27/22.

Accession Number: 20220127-5058.

Comment Date: 5 p.m. ET 2/17/22.

Docket Numbers: ER22-898-000.

Applicants: Southwest Power Pool, Inc.

Description: § 205(d) Rate Filing: 3211R3 North Iowa Municipal Electric Cooperative Association NITSA and NOA to be effective 1/1/2022.

Filed Date: 1/27/22.

Accession Number: 20220127-5074.

Comment Date: 5 p.m. ET 2/17/22.

Docket Numbers: ER22-899-000.

Applicants: Dominion Energy South Carolina, Inc.

Description: § 205(d) Rate Filing: Generator Replacement Coordinator Agr—GRC to be effective 3/29/2022.

Filed Date: 1/27/22.

Accession Number: 20220127-5080.

Comment Date: 5 p.m. ET 2/17/22.

Docket Numbers: ER22-900-000.

Applicants: Diamond Leaf Energy, LLC.

Description: Tariff Amendment: Cancellation of MBR Tariff to be effective 1/28/2022.

Filed Date: 1/27/22.

Accession Number: 20220127-5083.

Comment Date: 5 p.m. ET 2/17/22.

Docket Numbers: ER22-901-000.

Applicants: Atlantic City Electric Company.

Description: § 205(d) Rate Filing: Logan Generating Company Temporary Interconnection Arrangement to be effective 3/28/2022.

Filed Date: 1/27/22.

Accession Number: 20220127-5092.

Comment Date: 5 p.m. ET 2/17/22.

Docket Numbers: ER22-902-000.

Applicants: PJM Interconnection, L.L.C.

Description: § 205(d) Rate Filing: PJM submits NJ State Agreement Approach Agreement as Rate Sch. No. 49 to be effective 4/15/2022.

Filed Date: 1/27/22.

Accession Number: 20220127-5112.

Comment Date: 5 p.m. ET 2/17/22.

Docket Numbers: ER22-903-000.

Applicants: Northern Indiana Public Service Company LLC.

Description: § 205(d) Rate Filing: Rosebud CIAC Agreement to be effective 4/1/2022.

Filed Date: 1/27/22.

Accession Number: 20220127-5142.

Comment Date: 5 p.m. ET 2/17/22.

Docket Numbers: ER22-904-000.

Applicants: PJM Interconnection, L.L.C.

Description: § 205(d) Rate Filing: Amendment to WMPA, Service Agreement No. 4563; Queue No. AA2-048 to be effective 9/22/2016.

Filed Date: 1/27/22.

Accession Number: 20220127-5171.

Comment Date: 5 p.m. ET 2/17/22.

Docket Numbers: ER22-905-000.

Applicants: Sagebrush, a California partnership.

Description: Tariff Amendment: Notice of Cancellation to be effective 12/27/2021.

Filed Date: 1/27/22.

Accession Number: 20220127-5181.

Comment Date: 5 p.m. ET 2/17/22.

Docket Numbers: ER22-906-000.

Applicants: California Independent System Operator Corporation.

Description: § 205(d) Rate Filing: 2022-01-27 Transmission Service and Market Schedules to be effective 6/1/2022.

Filed Date: 1/27/22.

Accession Number: 20220127-5188.

Comment Date: 5 p.m. ET 2/17/22.

Docket Numbers: ER22-907-000.

Applicants: Indeck Niles, LLC.

Description: Initial rate filing: Reactive Power Rate Schedule to be effective 3/15/2022.

Filed Date: 1/27/22.

Accession Number: 20220127-5191.

Comment Date: 5 p.m. ET 2/17/22.

Docket Numbers: ER22-908-000.

Applicants: Mulberry Farm, LLC.

Description: § 205(d) Rate Filing: Notice of Change in Category Seller Status in the SE Region to be effective 1/28/2022.

Filed Date: 1/27/22.

Accession Number: 20220127-5234.

Comment Date: 5 p.m. ET 2/17/22.

Docket Numbers: ER22-909-000.

Applicants: Selmer Farm, LLC.

Description: § 205(d) Rate Filing: Notice of Change in Category Seller Status in the SE Region to be effective 1/28/2022.

Filed Date: 1/27/22.

Accession Number: 20220127-5237.

Comment Date: 5 p.m. ET 2/17/22.

Take notice that the Commission received the following electric securities filings:

Docket Numbers: ES22-26-000.

Applicants: MidAmerican Energy Company.

Description: Application Under Section 204 of the Federal Power Act for Authorization to Issue Securities of MidAmerican Energy Company.

Filed Date: 1/27/22.

Accession Number: 20220127-5236.

Comment Date: 5 p.m. ET 2/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2022.
Debbie-Anne A. Reese,
Deputy Secretary.

[FR Doc. 2022-02142 Filed 2-1-22; 8:45 am]

BILLING CODE 6717-01-P